DEPARTMENT OF COMMERCE

International Trade Administration

[C-570-054]

Certain Aluminum Foil From the People's Republic of China: Alignment of Final Countervailing Duty Determination With Final Antidumping Duty Determination

AGENCY: Enforcement and Compliance, International Trade Administration, Department of Commerce.

SUMMARY: The Department of Commerce (the Department) is aligning the final determination in this countervailing duty (CVD) investigation of certain aluminum foil (aluminum foil) from the People's Republic of China (the PRC) with the final determination in the companion antidumping duty (AD) investigation.

DATES: September 5, 2017.

FOR FURTHER INFORMATION CONTACT: John Corrigan at (202) 482-7438, AD/CVD Operations, Enforcement and Compliance, International Trade Administration, U.S. Department of Commerce, 1401 Constitution Avenue NW., Washington, DC 20230.

SUPPLEMENTARY INFORMATION:

Background

On March 28, 2017, the Department initiated the CVD and AD investigations of aluminum foil from the PRC.¹ The CVD investigation and AD investigation cover the same class or kind of merchandise.

¹ See Certain Aluminum Foil from the People's Republic of China: Initiation of Countervailing Duty Investigation, 82 FR 15688 (March 30, 2017), and Certain Aluminum Foil from the People's Republic of China: Initiation of Less-Than-Fair-Value Investigation, 82 FR 15691 (March 30, 2017).

Alignment With AD Final Determination

On August 14, 2017, the Department published the preliminary affirmative CVD determination pertaining to aluminum foil from the PRC.² On August 10, 2017, in accordance with section 705(a) of the Tariff Act of 1930, as amended (the Act), 19 CFR 351.210(b)(4)(i), and 351.210(i), the Aluminum Association Trade Enforcement Group and its individual members, i.e., the petitioners, timely requested alignment of the final CVD determination with final determination in the related AD investigation of aluminum foil from the PRC.³ Therefore, in accordance with section 705(a)(1) of the Act and 19 CFR 351.210(b)(4)(i), we are aligning the final CVD determination with the final AD determination. Consequently, the final CVD determination will be issued on the same date as the final AD determination, which is currently scheduled to be issued on or about December 18, 2017.

² See Certain Aluminum Foil from the People's Republic of China: Preliminary Affirmative Countervailing Duty Determination, 82 FR 37844 (August 14, 2017).

³ See Letter to the Secretary re: Countervailing Duty Investigation of Certain Aluminum Foil from the People's Republic of China—Petitioners' Request to Align the Countervailing Duty Final Determination with the Companion Antidumping Duty Final Determination, dated August 10, 2017.

This notice is issued and published pursuant to section 705(a)(1) of the Act and 19 CFR 351.210(g).

Dated: August 29, 2017.
Gary Taverman,
Deputy Assistant Secretary for Antidumping and Countervailing Duty Operations performing the non-exclusive functions and duties of the Assistant Secretary for Enforcement and Compliance.

[FR Doc. 2017-18642 Filed 9-1-17; 8:45 am]

BILLING CODE 3510-DS-P